NATIONAL LABOR RELATIONS BOARD

5 CFR Part 7101

RIN 3209-AA57

Supplemental Standards of Ethical Conduct for Employees of the National Labor Relations Board; Correction

AGENCY: National Labor Relations Board.

ACTION: Final rule; correction.

SUMMARY: The National Labor Relations Board (“NLRB” or “Board”), with the concurrence of the U.S. Office of Government Ethics (OGE), is correcting a final rule that appeared in the Federal Register on July 20, 2020. This final procedural rule amends the Supplemental Standards of Ethical Conduct for Employees of the National Labor Relations Board (NLRB Supplemental Ethics Regulations) to eliminate an out-of-date and unnecessary reference to the identity of its Designated Agency Ethics Official (DAEO) and Alternate Designated Agency Ethics Official (ADAEO) from its regulations.

DATES: Effective August 28, 2020.

FOR FURTHER INFORMATION CONTACT: Roxanne Rothschild, Executive Secretary, National Labor Relations Board, 1015 Half Street SE, Washington, DC 20570-0001, (202) 273-1940 (this is not a toll-free number), 1-866-315-6572 (TTY/TDD).

SUPPLEMENTARY INFORMATION: In FR Doc. 2020-14544 appearing on page 43681 in the Federal Register of Monday, July 20, 2020, the following correction is made:

§ 7101.101 [Amended]

1. Amend newly redesignated § 7101.101(b) by removing the words “Agency designees” and adding in their place “Agency designee.”

Dated: July 28, 2020.
Roxanne L. Rothschild,
Executive Secretary, National Labor Relations Board.

[FR Doc. 2020-16669 Filed 8-27-20; 8:45 am]

BILLING CODE 7545-01-P